DEPARTMENT OF HEALTH AND HUMAN SERVICES

Centers for Disease Control and Prevention

[30Day-11-0794]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Transgender HIV Behavioral Survey (THBS)—Reinstatement with changes (expired December 31, 2010)—National Center for HIV/AIDS, Viral Hepatitis, STD, and TB Prevention (NCHHSTP), Centers for Disease Control and Prevention (CDC).

Background and Brief Description

The Centers for Disease Control and Prevention requests approval of a Reinstatement with change of a previously approved collection, 0920-0794 Transgender HIV Behavioral Survey (THBS)—(expired December 31, 2010), for a period of 3 years. The previously approved project was a pilot. The purpose of this request is to conduct a behavioral survey among male-to-female transgender persons to assess prevalence of and trends in: (1) Risk behaviors for HIV infection, (2) HIV testing behaviors, and (3) exposure to, use of, and impact of HIV prevention services. The results of this data collection will be used to assess progress toward CDC's goals to increase the proportion of people who consistently engage in behaviors that reduce risk of HIV transmission or acquisition; and to monitor behaviors that increase the risk of HIV infection (among those who are not infected).

For the proposed data collection, the eligibility screener and the behavioral assessment instruments used for the previously approved pilot was shortened and a recruiter debriefing instrument added. The project activities and methods will remain the same as those used in the previously approved pilot.

Data will be collected through in-person, computer-assisted interviews conducted by trained interviewers in 5 Metropolitan Statistical Areas (MSA) or MSA Divisions in the United States. The MSAs chosen will be among those currently participating in the National HIV Behavioral Surveillance system (see Federal Register dated January 19, 2007: Vol. 72, No. 12, pages 2529-2530).

Respondent Driven Sampling (RDS) will be used to recruit participants. Except for a few initial recruits, persons will be recruited by peers for participation in THBS. A screener questionnaire will be used to determine eligibility for participation. In one year, approximately 1,100 individuals will be approached and screened (through a 5-minute interview) for eligibility to participate. Approximately 1,000 individuals are expected to be eligible and participate in the 40-minute behavioral assessment interview each year. At the end of the interview, the interviewer will train the respondent to recruit up to five peers. Each respondent who agrees to be a peer recruiter and who returns to the field site will be debriefed using a computer-assisted, interviewer-administered recruiter debriefing instrument. The debriefing instrument will collect information about the number of coupons the recruiter has distributed, whether anyone had refused the coupons, the race and ethnicity of those refusing coupons and the reason for refusal. This information is collected to improve response rates. Approximately 600 respondents are expected to participate as peer recruiters, about 500 of whom will return to be debriefed through a 2-minute interview. The total annualized burden is 776 hours. Participation of respondents is voluntary and there is no cost to the respondents other than their time.

Estimated Annualized Burden Hours
Type of respondent | Form name | Number of respondents | Number of responses per respondent | Average burden per response (in hours)
Persons Referred by Peer Recruiters | Screener | 1,100 | 1 | 5/60
Eligible Transgender Persons | Behavioral assessment | 1,000 | 1 | 40/60
Peer Recruiters | Recruiter Debriefing | 500 | 1 | 2/60

Dated: August 19, 2011.
Daniel Holcomb,
Reports Clearance Officer, Centers for Disease Control and Prevention.

[FR Doc. 2011-21739 Filed 8-24-11; 8:45 am]

BILLING CODE 4163-18-P